DEPARTMENT OF THE INTERIOR

Bureau of Land Management

[LLCAD01000 L12100000.MD0000 19XL1109AF (MO#4500136828)]

Meeting of the California Desert District Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) California Desert District Advisory Council (Council) will meet as indicated below.

DATES: The Council's next meeting will be held December 6-7, 2019. The Council will participate in a field tour of BLM-administered public lands on Friday, December 6, 2019, from 8:00 a.m. to 3:30 p.m. and then will meet in formal session on Saturday, December 7, 2019, from 9:00 a.m. to 4:00 p.m.

ADDRESSES: The Friday field trip will leave from the Palm Springs-South Coast Field Office, 1201 Bird Center Dr., Palm Springs, CA 92211. Saturday's formal session will be held at the Renaissance Palm Springs Hotel, 888 E Tahquitz Canyon Way, Palm Springs, California 92262. Final locations and agendas for the field trip and public meeting will be posted on the BLM web page at: https://www.blm.gov/get-involved/rac/california/california-desert-district.

Written comments for the Council may be sent in advance of the Saturday meeting c/o BLM, Public Affairs, 22835 Calle San Juan de Los Lagos, Moreno Valley, CA 92553.

FOR FURTHER INFORMATION CONTACT: Sarah K. Webster, BLM California State Office, telephone: 916-978-4622, email: swebster@blm.gov. Persons who use a telecommunications device for the deaf (TDD) may call the Federal Relay Service (FRS) at 1-800-877-8339 to contact Ms. Webster during normal business hours. The FRS is available 24 hours a day, 7 days a week, to leave a message or question. You will receive a reply during normal business hours.

SUPPLEMENTARY INFORMATION: The 15-member Council provides recommendations to the Secretary of the Interior concerning the planning and management of the public land resources located within the BLM's California Desert District and offers advice on the implementation of the comprehensive, long-range plan for management, use, development, and protection of the public lands within the California Desert Conservation Area.

All Council meetings and field trips are open to the public, but the public must provide their own transportation, meals, and beverages.

The field trip will include visits to the Eagle Crest Energy Eagle Mountain Pumped Storage Project, NextEra Desert Sunlight Solar Farm, and Terra-Gen San Jacinto II Wind Re-power Project. The Saturday public meeting will include a presentation on and discussion of renewable-energy development.

The Saturday meeting will include an update on implementation of the John D. Dingell, Jr. Conservation, Management, and Recreation Act in the California Desert District, updates from Council members and the BLM California Desert District Manager, and time for public comment at the beginning and end of the meeting as well as during various presentations. Depending on the number of people wishing to comment and the time available, the time for individual comments may be limited.

While the Saturday meeting is scheduled from 9:00 a.m. to 4:00 p.m., the meeting could conclude prior to 4:00 p.m. should the Council conclude its presentations and discussions. Therefore, members of the public interested in a particular agenda item or discussion should schedule their arrival accordingly.

Written comments will be accepted at the Saturday public meeting. Copies will be provided to the Council and incorporated into the meeting minutes.

Before including your address, phone number, email address, or other personal identifying information in your comment, you should be aware that your entire comment—including your personal identifying information—may be made publicly available at any time. While you can ask us in your comment to withhold your personal identifying information from public review, we cannot guarantee that we will be able to do so.

(Authority: 43 CFR 1784.4-2)

Andrew S. Archuleta,
California Desert District Manager.

[FR Doc. 2019-25180 Filed 11-20-19; 8:45 am]

BILLING CODE 4310-40-P